DEPARTMENT OF COMMERCE

International Trade Administration

Education Trade Mission to Africa, March 7-10, 2016

AGENCY: International Trade Administration, Department of Commerce.

ACTION: Notice.

SUMMARY: The United States Department of Commerce, International Trade Administration, is organizing an education mission to South Africa and Ghana with an optional stop in the Côte d'Ivoire. Department of Commerce is partnering with the Department of State's EducationUSA Advising Centers in each location. This trade mission will be led by a senior Department of Commerce official and the emphasis will be on higher education programs, community college programs and summer, undergraduate and graduate programs.

This mission will seek to connect U.S. higher education institutions to potential students and university/institution partners in these three African countries. The mission will include student fairs organized by Education USA, embassy briefings, site visits, and networking events in our target cities of Johannesburg, Accra, and Abidjan. Participation in the Education Mission to these nations, rather than traveling independently to each market, will enhance the ability of participants to secure appropriate meetings with productive contacts in the target markets.

Summer programs seeking to participate should be appropriately accredited by an accreditation body recognized by the U.S. Department of Education. Community colleges, undergraduate and graduate programs seeking to participate should be accredited by a recognized accreditation body listed in Council for Higher Education Accreditation (CHEA) or Accrediting Council for Education and Training (ACCET), in the Association of Specialized and Professional Accreditors (ASPA), or any accrediting body recognized by the U.S. Department of Education.

The delegation will include representatives from approximately 25 different educational institutions.

Mission Goals

The goals of the United States Education Mission to Africa are: (1) To help participants gain market exposure and to introduce participants to the vibrant African market in the countries of South Africa, Ghana, and Côte d'Ivoire (2) to help participants assess current and future business prospects by establishing valuable contacts with prospective students and educational institutions/partners; and (3) to help participants develop market knowledge and relationships leading to student recruitment and potential partnerships.

Proposed Mission Schedule—March 6 to 12, 2016

Johannesburg, South Africa—March 6-8, 2016

Sunday, March 6, 2016 Johannesburg

• Arrive in Johannesburg.

• Check into hotel.

Monday, March 7, 2016 Johannesburg

• Welcome and Briefing from the U.S. and Foreign Commercial Service.

• Visit to Oprah Winfrey's Leadership Academy.

• Visit to schools.

• Networking reception.

Tuesday, March 8, 2016 Johannesburg.

• Additional visits to schools.

• Education Fair.

• Travel to Accra, Ghana.

Accra, Ghana—Wednesday, March 9-10, 2016

Wednesday, March 9, 2016 Accra

• Travel recovery.

• Welcome and briefing from the U.S. and Foreign Commercial Service.

• Visits to schools.

• Reception at the U.S. Ambassador's residence.

Thursday, March 10, 2016 Accra

• Education Fair.

• Depart to Abidjan, Côte d'Ivoire for optional stop or return to the United States on own itinerary.

Official Trade Mission Ends

Abidjan, Cote d'Ivoire (OPTIONAL)

Friday, March 11, 2016 Abidjan

Welcome and briefing from the U.S. Department of State (EducationUSA)

• Visits to schools.

• Education Fair.

• Reception.

Saturday, March 12, 2016

• Departure to the USA.

Participation Requirements

All parties interested in participating in the Education Trade Mission to Africa must complete and submit an application package for consideration by the Department of Commerce. All applicants will be evaluated on their ability to meet certain conditions and best satisfy the selection criteria as outlined below. The mission will open on a rolling basis to a minimum of 20 and a maximum of 25 appropriately accredited U.S. educational institutions. U.S. educational institutions already recruiting in Africa, as well as U.S. education institutions seeking to enter the African market for the first time, may apply.

Fees and Expenses

After an institution has been selected to participate on the mission, a payment to the Department of Commerce in the form of a participation fee is required. The participation fee is $2,800 for one principal representative from each non-profit educational institution or educational institution with less than 500 employees and $3,300 for for-profit universities with over 500 employees.¹ An institution can choose to participate in the optional stop in Cote d'Ivoire for an additional $1,800 for one principal representative from each non-profit educational institution or educational institution with less than 500 employees and $1,900 for for-profit universities with over 500 employees. The fee for each additional representative is $600. Expenses for lodging, some meals, incidentals, and all travel (except for transportation to and from airports in-country, previously noted) will be the responsibility of each mission participant. The U.S. Department of Commerce can facilitate government rates in some hotels.

¹ An SME is defined as a firm with 500 or fewer employees or that otherwise qualifies as a small business under SBA regulations (see http://www.sba.gov/services/contractingopportunities/sizestandardstopics/index.html). Parent companies, affiliates, and subsidiaries will be considered when determining business size. Non-profit educational institutions will be considered SMEs for purposes of this guidance. The dual pricing reflects the Commercial Service's user fee schedule that became effective May 1, 2008 (see http://www.export.gov/newsletter/march2008/initiatives.html for additional information).

Conditions of Participation

An applicant must submit a timely, completed and signed mission application and supplemental application materials, including adequate information on course offerings, primary market objectives, and goals for participation. The institution must have appropriate accreditation as specified per paragraph one above. The institution must be represented at the student fair by an employee. No agents will be allowed to represent a school on the mission or participate at the student fair. Agents will also not be allowed into the fairs to solicit new partnerships. If the Department of Commerce receives an incomplete application, the Department may reject the application, request additional information, or take the lack of information into account when evaluating the applications.

Participants must travel to both stops in South Africa and Ghana on the mission. Côte d'Ivoire is the only optional stop.

Each applicant must certify that the services it seeks to export through the mission are either produced in the United States, or, if not, marketed under the name of a U.S. firm and have at least 51 percent U.S. content of the value of the service.

Selection Criteria for Participation

• Consistency of the applicant's goals and objectives with the stated scope of the mission.

• Applicant's potential for doing business in Africa, including the likelihood of service exports (education)/knowledge transfer resulting from the mission.

Referrals from political organizations and any documents containing references to partisan political activities (including political contributions) will be removed from an applicant's submission and will not be considered during the selection process.

Timeframe for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than January 15, 2016. Applications for the mission will be accepted on a rolling basis. Applications received after January 15, 2016, will be considered only if space and scheduling constraints permit.

Contacts

CS Portland, Jennifer Woods, Senior International Trade Specialist, U.S. Commercial Service Portland, 503-326-5290, jennifer.woods@trade.gov

CS Ft. Lauderdale, Tyler Hacking, Commercial Officer, U.S. Commercial Service Ft. Lauderdale, 954-356-6645, tyler.hacking@trade.gov

CS South Africa (Johannesburg), Mike Calvert, Commercial Officer, U.S. Commercial Service South Africa (Johannesburg), (+27) 11 290-3062, mike.calvert@trade.gov

Sanjay Harryparshard, U.S. Commercial Service South Africa (Johannesburg), harryparshardS@state.gov

CS Ghana, Joseph Snapp, Commercial Specialist, U.S. Commercial Service Ghana, +233 (0) 30 274 1329, Joseph.snapp@trade.gov

Paul Taylor, Senior Commercial Officer, U.S. Commercial Service Ghana, +233-302-741-086, paul.taylor@trade.gov

Côte d'Ivoire, Nina Toyo, EducationUSA Advisor, U.S. Embassy Abidjan, (225) 22 49 41 45, toyoNR@state.gov

Frank Spector,
Trade Promotion Programs.

[FR Doc. 2015-11070 Filed 5-7-15; 8:45 am]

BILLING CODE 3510-FR-P